NATIONAL AERONAUTICS AND SPACE ADMINISTRATION

[Notice (08-048)]

NASA Advisory Council; Science Committee; Planetary Science Subcommittee; Meeting

AGENCY: National Aeronautics and Space Administration.

ACTION: Notice of meeting.

SUMMARY: The National Aeronautics and Space Administration (NASA) announces a meeting of the Planetary Science Subcommittee of the NASA Advisory Council (NAC). This Subcommittee reports to the Science Committee of the NAC. The Meeting will be held for the purpose of soliciting from the scientific community and other persons scientific and technical information relevant to program planning.

DATES: Monday, June 23, 2008, 8:30 a.m. to 6:30 p.m., and Tuesday, June 24, 2008, 8:30 a.m. to 4:30 p.m.

ADDRESSES: NASA Goddard Space Flight Center, Building 1, Room E100E, 8800 Greenbelt Road, Greenbelt, Maryland 20771.

FOR FURTHER INFORMATION CONTACT: Ms. Marian Norris, Science Mission Directorate, NASA Headquarters, Washington, DC 20546, (202) 358-4452, fax (202) 358-4118, or mnorris@nasa.gov.

SUPPLEMENTARY INFORMATION: The meeting will be open to the public up to the capacity of the room. The agenda for the meeting includes the following topics:

—Planetary Science Division Update;

—Analysis Group and Management Operations Working Group Reports;

—Update on International Mars Architecture for Returning Samples;

—Evaluation of the Government Performance and Results Act Outcomes;

—Discussion with the New Associate Administrator for Science Mission Directorate.

It is imperative that the meeting be held on these dates to accommodate the scheduling priorities of the key participants. Attendees will be requested to sign a register and to comply with NASA security requirements, including the presentation of a valid picture ID, before receiving an access badge. Foreign nationals attending this meeting will be required to provide the following information no less than 15 working days prior to the meeting: Full name; gender; date/place of birth; citizenship; social security number; green card information (resident alien number, expiration date); visa information (number, type, expiration date); passport information (number, country of issue, expiration date); employer/affiliation information (name of institution, title/position, address, country of employer, telephone, email address); title/position of attendee. To expedite admittance, attendees with U.S. citizenship can provide identifying information 4 working days in advance by contacting Marian Norris via e-mail at mnorris@nasa.gov or by telephone at (202) 358-4452.

Dated: May 20, 2008.
P. Diane Rausch,
Advisory Committee Management Officer, National Aeronautics and Space Administration.

[FR Doc. E8-11805 Filed 5-27-08; 8:45 am]

BILLING CODE 7510-13-P